DEPARTMENT OF TRANSPORTATION

Federal Motor Carrier Safety Administration

[Docket No. FMCSA-2001-9876]

Agency Information Collection Activity Under OMB Review: OMB No. 2126-0015 (Designation of Agents; Motor Carriers, Brokers and Freight Forwarders)

AGENCY: Federal Motor Carrier Safety Administration (FMCSA), DOT.

ACTION: Notice and request for comments.

SUMMARY: The FMCSA announces that the Information Collection Request (ICR) described in this notice is being sent to the Office of Management and Budget (OMB) for review and continued approval. This information collection allows registered motor carriers, property brokers, and freight forwarders a means of meeting process agent requirements. The ICR describes the information collection and its expected burden. The FMCSA published the required Federal Register notice offering a 60-day comment period on this information collection on June 27, 2001 (66 FR 34314). No comments were received. We are required to send ICRs to OMB under the Paperwork Reduction Act.

DATES: Comments should be submitted by November 14, 2001.

ADDRESSES: Send comments to the Office of Information and Regulatory Affairs, Office of Management and Budget, 725 Seventeenth Street NW., Washington, DC 20503, Attention: DOT Desk Officer. We particularly request your comments on whether the collection of information is necessary for the FMCSA to meet its goal of reducing truck crashes, including whether the information is useful to this goal; the accuracy of the estimate of the burden of the information collection; ways to enhance the quality, utility and clarity of the information collected; and ways to minimize the burden of the collection of information on respondents, including the use of automated collection techniques or other forms of information technology. OMB wants to receive comments within 30 days of publication of this notice in order to act on the ICR quickly.

FOR FURTHER INFORMATION CONTACT: Ms. Marian Lee, (202) 358-7028, Office of Enforcement and Compliance (MC-ECI), Federal Motor Carrier Safety Administration, DOT, 400 Seventh Street, SW., Washington, DC 20590. Office hours are from 7:45 a.m. to 4:15 p.m., e.t., Monday through Friday, except Federal holidays.

SUPPLEMENTARY INFORMATION: Title: Designation of Agents; Motor Carriers, Brokers and Freight Forwarders.

OMB Approval Number: 2126-0015.

Background: The Secretary of Transportation (Secretary) is authorized to register for-hire motor carriers of regulated commodities under the provisions of 49 U.S.C. 13902; freight forwarders under the provisions of 49 U.S.C. 13903, and property brokers under the provisions of 49 U.S.C. 13904. These persons may conduct transportation services only if they are registered pursuant to 49 U.S.C. 13901. The Secretary has delegated authority pertaining to these registrations to the FMCSA. Registered motor carriers, brokers, and freight forwarders must designate: (1) An agent on whom service of notices in proceedings before the Secretary may be made (49 U.S.C. 13303); and (2) for every State in which they operate, agents on whom process issued by a court may be served in actions brought against the registered transportation entity (49 U.S.C. 13304). Regulations governing the designation of process agents are found at 49 CFR part 366. This designation is filed with the FMCSA on Form BOC-3, Designation of Agent for Service of Process.

Respondents: Motor carriers, freight forwarders, and brokers.

Estimated Burden: The estimated average burden per response for Form BOC-3 is 10 minutes. The estimated total annual burden is 5,000 hours for Form BOC-3 based on 30,000 filings per year.

Frequency: Form BOC-3 must be filed when the transportation entity first registers with the FMCSA. Subsequent filings are made only if the motor carrier, broker, or freight forwarder changes process agents.

Authority: The Paperwork Reduction Act of 1995; 44 U.S.C. Chapter 35, as amended; and 49 CFR 1.73.

Issued on: October 5, 2001.
Julie Anna Cirillo,
Acting Deputy Administrator.

[FR Doc. 01-25905 Filed 10-12-01; 8:45 am]

BILLING CODE 4910-EX-P